DEPARTMENT OF ENERGY

Federal Energy Regulatory Commission

Combined Notice of Filings #2

Take notice that the Commission received the following electric corporate filings:

Docket Numbers: EC14-142-000.

Applicants: Grand Ridge Energy LLC, Grand Ridge Energy II LLC, Grand Ridge Energy III LLC, Grand Ridge Energy IV LLC, Grand Ridge Energy Storage LLC.

Description: Application for Authorization Under Section 203 of the Federal Power Act and Request for Waivers and Expedited Action of Grand Ridge Energy LLC, et. al.

Filed Date: 9/12/14.

Accession Number: 20140912-5058.

Comments Due: 5 p.m. ET 10/3/14.

Take notice that the Commission received the following electric rate filings:

Docket Numbers: ER14-2372-000.

Applicants: California Independent System Operator Corporation.

Description: Amendment to July 07, 2014 California Independent System Operator Corporation tariff filing.

Filed Date: 9/11/14.

Accession Number: 20140911-5195.

Comments Due: 5 p.m. ET 9/17/14.

Docket Numbers: ER14-2857-000.

Applicants: FPL Energy MH50, L.P.

Description: Compliance filing per 35: FPL Energy MH50, L.P. Order No. 784 Compliance Filing to be effective 9/11/2014.

Filed Date: 9/12/14.

Accession Number: 20140912-5063.

Comments Due: 5 p.m. ET 10/3/14.

Docket Numbers: ER14-2858-000.

Applicants: Origin Wind Energy, LLC.

Description: Initial rate filing per 35.12 Origin Wind Energy, LLC MBR Tariff to be effective 9/15/2014.

Filed Date: 9/12/14.

Accession Number: 20140912-5085.

Comments Due: 5 p.m. ET 10/3/14.

Docket Numbers: ER14-2859-000.

Applicants: Southwest Power Pool, Inc.

Description: § 205(d) rate filing per 35.13(a)(2)(iii): Cancellation of KMEA NITSAs/NOAs Superseded by SA 2900 to be effective 5/1/2014.

Filed Date: 9/12/14.

Accession Number: 20140912-5096.

Comments Due: 5 p.m. ET 10/3/14.

Docket Numbers: ER14-2860-000.

Applicants: Midcontinent Independent System Operator, Inc.

Description: § 205(d) rate filing per 35.13(a)(2)(iii): 2014-09-12_SA 6506 Presque Isle SSR Agr Termination & SA 6508 New SSR Agr to be effective 10/14/2014.

Filed Date: 9/12/14.

Accession Number: 20140912-5104.

Comments Due: 5 p.m. ET 10/3/14.

Docket Numbers: ER14-2861-000.

Applicants: Midcontinent Independent System Operator, Inc. Union Electric Company.

Description: § 205(d) rate filing per 35.13(a)(2)(iii): 2014-09-12_SA 2697 Ameren-AECI Interchange Agreement (GFA No. 403) to be effective 9/13/2014.

Filed Date: 9/12/14.

Accession Number: 20140912-5108.

Comments Due: 5 p.m. ET 10/3/14.

Docket Numbers: ER14-2862-000.

Applicants: Midcontinent Independent System Operator, Inc.

Description: § 205(d) rate filing per 35.13(a)(2)(iii): 2014-09-12_Schedule 43G Presque Isle Retirement to be effective 10/15/2014.

Filed Date: 9/12/14.

Accession Number: 20140912-5110.

Comments Due: 5 p.m. ET 10/3/14.

Docket Numbers: ER14-2863-000.

Applicants: Midcontinent Independent System Operator, Inc.

Description: § 205(d) rate filing per 35.13(a)(2)(iii): 2014-09-12 ELMP 205 to change effective date to be effective 12/31/9998.

Filed Date: 9/12/14.

Accession Number: 20140912-5130.

Comments Due: 5 p.m. ET 10/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2014.
Nathaniel J. Davis, Sr.,
Deputy Secretary.

[FR Doc. 2014-22390 Filed 9-18-14; 8:45 am]

BILLING CODE 6717-01-P